DEPARTMENT OF TRANSPORTATION

Federal Aviation Administration

14 CFR Part 71

[Docket No. FAA-2023-1325; Airspace Docket No. 23-AGL-17]

RIN 2120-AA66

Amendment of VOR Federal Airway V-36 and Establishment of RNAV Route T-675; Northcentral United States

AGENCY: Federal Aviation Administration (FAA), DOT.

ACTION: Final rule.

SUMMARY: This action amends Very High Frequency Omnidirectional Range (VOR) Federal airway V-36 and establishes Canadian Area Navigation (RNAV) route T-675 in the northcentral United States (US). The Air Traffic Service (ATS) route actions are necessary due to the planned decommissioning of the Wawa, Ontario (ON), Canada, VOR navigational aid (NAVAID). This action is in support of NAV CANADA's NAVAID Modernization Program within Canada.

DATES: Effective date 0901 UTC, November 30, 2023. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the ATS route structure as necessary to preserve the safe and efficient flow of air traffic within the National Airspace System.

History

The FAA published a notice of proposed rulemaking for Docket No. FAA-2023-1325 in the Federal Register (88 FR 37179; June 7, 2023), amending VOR Federal airway V-36 and establishing Canadian RNAV route T-675 in the northcentral US. The action is due to the planned decommissioning of the Wawa, Ontario (ON), Canada, VOR navigational aid (NAVAID) by NAV CANADA in support of their NAVAID Modernization Program. Interested parties were invited to participate in this rulemaking effort by submitting written comments on the proposal. No comments were received.

Differences From the NPRM

Subsequent to the NPRM, NAV CANADA clarified their intended action due to the planned decommissioning of the Wawa, ON, Canada VOR was to replace the existing V-36 entirely with a new RNAV route T-675 between the Thunder Bay, ON, Canada, area and the Sault Ste Marie, MI, VOR/Distance Measuring Equipment (DME) NAVAID. The NPRM proposed to remove the affected V-36 airway segments within US airspace between the Thunder Bay, ON, Canada, VOR/DME and the Sault Ste Marie, MI, VOR/DME, but only proposed to establish the replacement Canadian RNAV route T-675 for one of the two affected V-36 segments within US airspace. In the NPRM, the FAA proposed to establish the T-675 route segment over Lake Michigan between the NOJJE, MI, waypoint (WP) replacing the “CFZDP” computer navigation fix (CNF) and the RUXDU, MI, WP replacing the “CFTKM” CNF on the US/Canada border, but not the second route segment overlaying V-36 in US airspace between the Sault Ste Marie VOR/DME northward to the US/Canada border.

In order to provide continued cross border connectivity for the entirety of the new T-675 route replacing the existing V-36 airway between the Thunder Bay VOR/DME and the Sault Ste Marie VOR/DME, the FAA has determined this action must also include establishing a second segment of T-675 within US airspace between the Sault Ste Marie VOR/DME and the BBIGG, MI, WP replacing the “CFCMN” CNF on the US/Canada border. Although the second T-675 route segment was not proposed in the NPRM, its inclusion in this action retains the ATS routing provided by V-36 prior to this final rule, provides route continuity with NAV CANADA's T-675 in Canadian airspace, assures continued cross border connectivity between Thunder Bay, Ontario, Canada and Sault Ste Marie, MI, and prevents any possible safety-related issues or confusion caused by the publication of the replacement T-675 route ending on the US/Canada border instead of the Sault Ste Marie VOR/DME NAVAID.

Therefore, this action adds the Canadian RNAV route T-675 segment between the Sault Ste Marie VOR/DME and the BBIGG, MI, WP to the route description published in the NPRM. The Canadian RNAV route T-675 being established in this final rule extends between the Sault Ste Marie VOR/DME and the BBIGG, MI, WP and between the NOJJE, MI, WP and the RUXDU, MI, WP.

Incorporation by Reference

VOR Federal airways are published in paragraph 6010(a) and Canadian Area Navigation Routes are published in paragraph 6013 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by amending VOR Federal airway V-36 and establishing Canadian RNAV route T-675 in US airspace. This action is being taken due to NAV CANADA's planned decommissioning of the Wawa, ON, Canada, VOR as part of their NAVAID Modernization Program. The ATS route actions are described below.

V-36: Prior to this rule, V-36 extended between the Thunder Bay, ON, Canada, VOR/DME and the Sault Ste Marie, MI, VOR/DME; and between the Elmira, NY, VOR/DME and the intersection of the La Guardia, NY, VOR/DME 310° and the Stillwater, NJ, VOR/DME 043° radials (NEION fix). The airspace within Canada is excluded. The airway segments between the Thunder Bay, ON, Canada, VOR/DME and the Sault Ste Marie, MI, VOR/DME and the exclusionary language is removed. As amended, the airway extends completely within US airspace between the Elmira VOR/DME and the intersection of the La Guardia VOR/DME 310° and the Stillwater VOR/DME 043° radials (NEION fix).

T-675: T-675 is established between the Sault Ste Marie, MI, VOR/DME and the BBIGG, MI, WP which replaces the “CFCMN” CNF, and between the NOJJE, MI, WP and the RUXDU, MI, WP. The two new Canadian RNAV route segments in US airspace provide route continuity and cross border connectivity from Sault Ste Marie, MI, and Thunder Bay, ON, Canada with two Canadian RNAV route T-675 segments being established by NAV CANADA within Canadian airspace.

All radials in the VOR Federal airway V-36 description in the amendments to part 71 are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of amending VOR Federal airway V-36 and establishing Canadian RNAV route T-675 within US airspace, due to NAV CANADA's planned decommissioning of the Wawa, ON, Canada, VOR NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5k, which categorically excludes from further environmental impact review publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11H, Airspace Designations and Reporting Points, dated August 11, 2023, and effective September 15, 2023, is amended as follows:

Paragraph 6010(a) Domestic VOR Federal Airways.

* * * * *

V-36 [Amended]

From Elmira, NY; INT Elmira 110° and LaGuardia, NY, 310° radials; to INT LaGuardia 310° and Stillwater, NJ, 043° radials.

* * * * *

Paragraph 6013 Canadian Area Navigation Routes.

* * * * *

T-675 Sault Ste Marie, MI (SSM) to RUXDU, MI [New]
Sault Ste Marie, MI (SSM) | VOR/DME | (Lat. 46°24′43.60″ N, long. 084°18′53.54″ W)
BBIGG, MI | WP | (Lat. 46°30′27.69″ N, long. 084°20′44.09″ W)
and
NOJJE, MI | WP | (Lat. 48°10′58.82″ N, long. 088°03′36.84″ W)
RUXDU, MI | WP | (Lat. 48°13′11.74″ N, long. 088°44′17.74″ W)

* * * * *

Issued in Washington, DC, on September 18, 2023.
Karen L. Chiodini,
Acting Manager, Rules and Regulations Group.

[FR Doc. 2023-20449 Filed 9-21-23; 8:45 am]

BILLING CODE 4910-13-P